DEPARTMENT OF HEALTH AND HUMAN SERVICES

Food and Drug Administration

Cooperative Agreement To Support the National Alliance for Hispanic Health; Notice of Intent To Accept and Consider a Single Source Application; Availability of Funds for Fiscal Year 2007

AGENCY: Food and Drug Administration, HHS.

ACTION: Notice.

SUMMARY: The Food and Drug Administration (FDA) is announcing its intent to accept and consider a single source application (RFA-FDA-07-006) for the awarding of a Cooperative Agreement to the National Alliance for Hispanic Health (the Alliance). The purpose of the agreement is to empower consumers to improve their health by providing better consumer health information; ensure that health information available to consumers is clear, informative, and effective; leverage opportunities to eliminate health disparities in subpopulations; respond to the health promotion and disease prevention objectives of the Department of Health and Human Services (HHS) “Healthy People 2010” document; and improve health literacy for Hispanic Americans. FDA anticipates providing $ 35,000.00 (direct and indirect costs) in fiscal year (FY) 2007 in support of this project. Subject to the availability of funds and successful performance, two additional years of support up to $35,000.00 per year (direct and indirect) will be available.

DATES: Applications are due August 24, 2007.

FOR FURTHER INFORMATION CONTACT: Gladys M. Bohler, Office of Acquisitions and Grants Services, Food and Drug Administration, 5630 Fishers Lane, rm. 2105, Rockville, MD 20857, 301-827-7168, or e-mail: gladys.melendez-bohler@fda.hhs.gov.

SUPPLEMENTARY INFORMATION:

I. Application and Submission Information

In FY 2007, all applications must be received by August 24, 2007. Applications must be received by close of business on the established receipt date. Late applications may be accepted under extreme circumstances beyond the control of the applicant. Applicants not received on time will not be considered for review and will generally be returned to the applicant.

Applications must be submitted electronically through grants.gov. The application must be on SF424 R&R (Research and Related Portable Document Format). Exceptions may be made in unusual circumstances and on a case by case basis. Applicants must download the SF424 (R&R) application forms and 424 (R&R) Application Guide for this funding opportunity through grants.gov at http://www.grants.gov/Apply. Please note, only the forms package directly attached to this specific funding opportunity in grants.gov can be used.

If electronic submission is impossible, please contact Gladys M. Bohler, Grants Management Specialist, at 301-827-7168 or by e-mail at gladys.melendez-bohler@fda.hhs.gov (See Agency Contacts). When submitting applications electronically, provide URL link, and identify any particular software that is required, and identify your organization contact in the event of system problems.

For the grants.gov electronic application process, applicants are required to register with the Central Contractor Registration (CCR) database. This database is a government-wide warehouse of commercial and financial information for all organizations conducting business with the Federal Government.

Registration with CCR is a requirement and is consistent with the government-wide management reform to create a citizen-centered Web presence and build e-gov infrastructures in and across agencies to establish a “single face to industry.” The preferred method for completing a registration is through the World Wide Web at http://www.ccr.gov. This Web site provides a CCR handbook with detailed information on data you will need prior to beginning the online registration, as well as steps to walk you through the registration process.

In order to access grants.gov, an applicant will be required to register with the Credential Provider. Information about this is available at https://apply.grants.gov/OrcRegister. (FDA has verified the Web site address, but we are not responsible for subsequent changes to the Web site after this document publishes in the Federal Register.)

II. Agency Contacts

For issues regarding the administrative and financial management aspects of this notice, contact: Gladys M. Bohler by mail: Office of Acquisitions and Grants Services, Food and Drug Administration, 5630 Fishers Lane, Rockville, MD 20857; telephone: 301-827-7168; FAX: 301-827-7101; e-mail: gladys.melendez-bohler@fda.gov.

For issues regarding the programmatic aspects, contact: Mary C. Hitch, Senior Policy Advisor, Office of External Relations (HF-10), Food and Drug Administration, 5600 Fishers Lane, Rockville, MD 20857; telephone: 301-827-4406; FAX: 301-827-8030; e-mail: mary.hitch@fda.hhs.gov.

Dated: August 2, 2007.
Jeffrey Shuren,
Assistant Commissioner for Policy.

[FR Doc. E7-15491 Filed 8-7-07; 8:45 am]

BILLING CODE 4160-01-S